DEPARTMENT OF THE INTERIOR

Bureau of Indian Affairs

[145A2100DD.AADD001000.A0E501010.999900]

Renewal of Agency Information Collection for IDEIA Part B and C Child Count

AGENCY: Bureau of Indian Affairs, Interior.

ACTION: Notice of request for comments.

SUMMARY: In compliance with the Paperwork Reduction Act of 1995, the Bureau of Indian Education (BIE) is seeking comments on the renewal of Office of Management and Budget (OMB) approval for the collection of information for the Individuals with Disabilities Education Improvement Act (IDEIA) Part B and C Child Count authorized by OMB Control Number 1076-0176. This information collection expires May 31, 2014.

DATES: Submit comments on or before February 21, 2014.

ADDRESSES: You may submit comments on the information collection Sue Bement, Bureau of Indian Education, 1011 Indian School Road NW., Suite 332, Albuquerque, New Mexico 87104-1088, fax: (505) 563-5281 or email: sue.bement@bie.edu.

FOR FURTHER INFORMATION CONTACT: Sue Bement, telephone: (505) 563-5275.

SUPPLEMENTARY INFORMATION:

I. Abstract

The IDEIA, 20 U.S.C. 1411(h)(4)(c) and 1443(b)(3) require tribes and tribal organizations to submit certain information to the Secretary of the Interior. Under the IDEIA, the U.S. Department of Education provides funding to the Secretary of the Interior for the coordination of assistance for special education and related services for Indian children aged 0 to 5 with disabilities on reservations served by Bureau-funded schools. The Secretary of the Interior, through the BIE, then allocates this funding to tribes and tribal organizations based on the number of such children served. In order to allow the Secretary of the Interior to determine what amounts to allocate to whom, the IDEIA requires tribes and tribal organizations to submit information to Interior. The BIE collects this information on two forms, one for Indian children aged 3 to 5 covered by IDEIA Part B, and one for Indian children aged 0 to 2 covered by IDEIA Part C.

In IDEIA Part B—Assistance for Education of All Children with Disabilities, 20 U.S.C. 1411(h)(4)(D) requires tribes to and tribal organizations to use the funds to assist in child find, screening, and other procedures for the early identification of Indian children aged 3 through 5, parent training, and the provision of direct services. In IDEIA Part C—Infants and Toddlers with Disabilities, 20 U.S.C. 1443(b)(4) likewise requires tribes and tribal organizations to use the fund to assist in child find, screening, and other procedures for early identification of Indian children under 3 years of age and for parent training, and early intervention services.

II. Request for Comments

The BIE requests your comments on this collection concerning: (a) The necessity of this information collection for the proper performance of the functions of the agency, including whether the information will have practical utility; (b) The accuracy of the agency's estimate of the burden (hours and cost) of the collection of information, including the validity of the methodology and assumptions used; (c) Ways we could enhance the quality, utility, and clarity of the information to be collected; and (d) Ways we could minimize the burden of the collection of the information on the respondents.

Please note that an agency may not conduct or sponsor, and an individual need not respond to, a collection of information unless it displays a valid OMB Control Number.

It is our policy to make all comments available to the public for review at the location listed in the ADDRESSES section. Before including your address, phone number, email address or other personal identifying information in your comment, you should be aware that your entire comment—including your personal identifying information—may be made publicly available at any time. While you can ask us in your comment to withhold your personal identifying information from public review, we cannot guarantee that we will be able to do so.

III. Data

OMB Control Number: 1076-0176.

Title: IDEIA Part B and Part C Child Count.

Brief Description of Collection: Indian Tribes and Tribal organizations served by elementary or secondary schools for Indian children operated or funded by the Departments of the Interior that receive allocations of funding under the IDEIA for the coordination of assistance for Indian children 0 to 5 years of age with disabilities on reservations must submit information to the BIE. The information must be provided on two forms. The Part B form addresses Indian children 3 to 5 years of age on reservations served by Bureau-funded schools. The Part C form addresses Indian children up to 3 years of age on reservations served by Bureau-funded schools. The information required by the forms includes counts of children as of a certain date each year. Response is required to obtain a benefit.

Type of Review: Extension without change of currently approved collection.

Respondents: Indian Tribes and Tribal organizations.

Number of Respondents: 61 each year.

Frequency of Response: Twice (Once per year for each form).

Estimated Time per Response: 20 hours per form.

Estimated Total Annual Hour Burden: 2,440 hours.

Estimated Total Annual Non-Hour Dollar Cost: $0.

Dated: December 13, 2013.
John Ashley,
Acting Assistant Director for Information Resources.

[FR Doc. 2013-30582 Filed 12-20-13; 8:45 am]

BILLING CODE 4310-6W-P